DEPARTMENT OF COMMERCE

Foreign-Trade Zones Board

[Order No. 1870]

Reorganization of Foreign-Trade Zone 43 Under Alternative Site Framework, Battle Creek, MI

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the City of Battle Creek, Michigan, grantee of Foreign-Trade Zone 43, submitted an application to the Board (FTZ Docket B-57-2012, docketed 7-30-2012) for authority to reorganize under the ASF with a service area of Allegan, Barry, Berrien, Branch, Calhoun, Cass, Clinton, Eaton, Ingham, Ionia, Jackson, Kalamazoo, St. Joseph and Van Buren Counties, Michigan, in and adjacent to the Battle Creek Customs and Border Protection port of entry, FTZ 43's existing Site 1 would be categorized as a magnet site and existing Site 8 would be categorized as a usage-driven site;

Whereas, notice inviting public comment was given in the Federal Register (77 FR 46376-46377, 8-3-2012) and the application has been processed pursuant to the FTZ Act and the Board's regulations; and,

Whereas, the Board adopts the findings and recommendation of the examiner's report, and finds that the requirements of the FTZ Act and the Board's regulations are satisfied, and that the proposal is in the public interest;

Now, therefore, the Board hereby orders:

The application to reorganize FTZ 43 under the alternative site framework is approved, subject to the FTZ Act and the Board's regulations, including Section 400.13, to the Board's standard 2,000-acre activation limit for the zone, to a five-year ASF sunset provision for magnet sites that would terminate authority for Site 1 if not activated by November 30, 2017, and to a three-year ASF sunset provision for usage-driven sites that would terminate authority for Site 8 if no foreign-status merchandise is admitted for a bona fide customs purpose by November 30, 2015.

Signed at Washington, DC, this 30th day of November 2012.
Ronald K. Lorentzen,
Acting Assistant Secretary of Commerce for Import Administration, Alternate Chairman, Foreign-Trade Zones Board.
Attest:
Andrew McGilvray,
Executive Secretary.

[FR Doc. 2012-29655 Filed 12-6-12; 8:45 am]

BILLING CODE P